FEDERAL COMMUNICATIONS COMMISSION

47 CFR Part 22

[WT Docket No. 04-435; DA 05-1712]

Facilitating the Use of Cellular Telephones and Other Wireless Devices Aboard Airborne Aircraft

AGENCY: Federal Communications Commission.

ACTION: Proposed rule; extension of reply comment period.

SUMMARY: In this document, the Wireless Telecommunications Bureau (WTB) of the Federal Communications Commission (Commission) extends the reply comment deadline established in the Notice of Proposed Rulemaking (NPRM) adopted by the Commission in the Airborne Cellular proceeding. This action is taken to provide interested parties sufficient time within which to respond meaningfully to the relevant issues raised in both the NPRM and in the recently-filed comments in this proceeding.

DATES: The agency must receive reply comments on or before August 11, 2005.

ADDRESSES: Interested parties may submit comments, identified by WT Docket No. 04-435, by any of the following methods:

• Federal eRulemaking Portal: http://www.regulations.gov. Follow the instructions for submitting comments.

• Federal Communications Commission's Web site: http://www.fcc.gov/cgb/ecfs/. Follow the instructions for submitting comments.

• E-mail: To receive filing instructions for e-mail comments, commenters should send an e-mail to ecfs@fcc.gov, and should include the following words in the body of the message, “get form <your e-mail address>.” A sample form and directions will be sent in reply. Include the docket number in the subject line of the message.

• Mail: Appropriate addresses for submitting comments and reply comments may be found in the SUPPLEMENTARY INFORMATION section of this document.

• People with Disabilities: Contact the FCC to request reasonable accommodations (accessible format documents, sign language interpreters, CART, etc.) by e-mail: FCC504@fcc.gov or phone: 202-418-0530 or TTY: 202-418-0432.

Instructions: All submissions received must include the agency name and docket number or Regulatory Information Number (RIN) for this rulemaking. All comments received will be posted without change to http://www.fcc.gov/cgb/ecfs/, including any personal information provided.

Docket: Interested parties may read the NPRM and submitted comments by accessing WT Docket 04-435 at http://www.fcc.gov/cgb/ecfs/.

FOR FURTHER INFORMATION CONTACT: Guy N. Benson, Wireless Telecommunications Bureau, at 202-418-2946, or via the Internet at Guy.Benson@fcc.gov.

SUPPLEMENTARY INFORMATION: This is a summary of the WTB's Order (Order), DA 05-1712, in WT Docket No. 04-435 (2005 WL 1489574 (FCC)), released June 23, 2005, which further extends the reply comment filing deadline in the Airborne Cellular proceeding. The full text of this document is available for public inspection and copying during regular business hours at the FCC Reference Information Center, 445 12th St., SW., Room CY-A257, Washington, DC 20554. The complete text may be purchased from the Commission's duplicating contractor: Best Copy & Printing, Inc., 445 12th Street, SW., Room CY-B402, Washington, DC 20554, telephone 800-378-3160, facsimile 202-488-5563, or via e-mail at fcc@bcpiweb.com. The full text may also be downloaded at: http://www.fcc.gov. Alternative formats are available to persons with disabilities by contacting Brian Millin at (202) 418-7426 or TTY (202) 418-7365 or at Brian.Millin@fcc.gov.

Synopsis of the Order

1. On December 15, 2004, the Commission adopted an NPRM in WT Docket No. 04-435; FCC 04-288 published at 70 FR 11916, March 10, 2005, in which it requested public comment regarding proposals to replace or relax the Commission's ban on airborne use of 800 MHz cellular handsets, as well as on other proposals to facilitate the use of wireless handsets and devices on airborne aircraft.

2. Pursuant to several extension requests, the WTB released an April 6, 2005 Order in WT Docket No. 04-435; DA 05-1015 published at 70 FR 21724, April 27, 2005, in which the Commission extended the comment and reply comment deadlines from April 11, 2005, and May 9, 2005, respectively, to May 26, 2005, and June 27, 2005, respectively.

3. On June 13, 2005, CTIA-The Wireless Association (“CTIA”) submitted a request seeking a further extension of time to file reply comments in this proceeding. The Boeing Company, Cingular Wireless LLC and Cellco Partnership d/b/a Verizon Wireless, and QUALCOMM Incorporated filed comments in support of CTIA's request. The parties argue that a further extension of the reply comment period would permit interested parties to conduct a more thorough review of all the issues raised by the comments and to submit more detailed and meaningful responses.

4. Although it is the policy of the Commission that extensions of time shall not be routinely granted, an extension of time in this instance will aid in clarifying the complex issues raised in the record of this proceeding. In order to provide interested parties sufficient time within which to respond meaningfully to the relevant issues raised in the NPRM and the record, the reply comments deadline in this proceeding is extended, by forty-five days, to August 11, 2005.

Ordering Clause

5. Pursuant to sections 4(i) and 4(j) of the Communications Act of 1934, as amended, 47 U.S.C. 154(i) and 154(j), and §§ 0.131, 0.331, and 1.46 of the Commission's rules, 47 CFR 0.131, 0.331, and 1.46, the deadline for filing reply comments in response to the NPRM, published on March 10, 2005, in WT Docket No. 04-435, is extended to August 11, 2005.

List of Subjects in 47 CFR Part 22

Communications common carriers, and Radio.

Federal Communications Commission.
Linda C. Chang,
Associate Chief, Mobility Division, Wireless Telecommunications Bureau.

[FR Doc. 05-13361 Filed 7-12-05; 8:45 am]

BILLING CODE 6712-01-P